DEPARTMENT OF STATE

[Public Notice 3597]

Bureau of Educational and Cultural Affairs; Future Leaders Exchange (FLEX) Language and Culture Enhancement Program

NOTICE: Amendment to extend deadline.

SUMMARY: Due to an administrative error, the deadline for the Language and Culture Enhancement Program has been extended from March 29, 2001 to April 2, 2001.

FOR FURTHER INFORMATION CONTACT: Interested organizations should contact Anna Mussman at (202) 619-5904 or (202) 619-5311 (fax).

The Language and Culture Enhancement Program was announced in the Federal Register, Volume 66, Number 36, page 11194, on February 22, 2001.

Dated: March 2, 2001.
Helena Kane Finn,
Acting Assistant Secretary for Educational and Cultural Affairs, U.S. Department of State.

[FR Doc. 01-5769 Filed 3-7-01; 8:45 am]

BILLING CODE 4710-05-P